DEPARTMENT OF TRANSPORTATION

Federal Highway Administration

Environmental Impact Statement: Multiple North-Central, Central and South Texas Counties, State of Texas

AGENCY: Federal Highway Administration (FHWA), DOT.

ACTION: Notice of Intent.

SUMMARY: The FHWA issuing this notice to advise the public that a Tier One environmental impact statement (EIS) will be prepared for a proposed multi-modal transportation facility to extend south from the Texas-Oklahoma state line, north of the Dallas/Fort Worth metropolitan area, through Central Texas, to the Texas-Mexico international border and/or the Texas Gulf Coast. The proposed facility, known as Trans-Texas Corridor 35 (TTC-35), is a priority element of the proposed Trans-Texas Corridor system for the State of Texas as conceptually outlined in Crossroads of the Americas: Trans-Texas Corridor Plan (TTCP), June 2002.

FOR FURTHER INFORMATION CONTACT: Salvador Deocampo, District Engineer, Federal Highway Administration, 300 E. 8th Street, Room 826, Austin, Texas 78701, Telephone: (512) 536-5950.

SUPPLEMENTARY INFORMATION: The FHWA, in cooperation with the Texas Department of Transportation (TxDOT), intends to prepare a Tier One EIS for the selection of a corridor for the proposed construction of the TTC-35 multi-modal transportation facility. As currently envisioned, the proposed TTC-35 facility would include highway lanes for passenger vehicles; separate lanes for trucks; and rail lines (one in each direction serving freight, commuter and high speed passenger traffic). Interchanges or grade separations would be constructed at thoroughfares and direct connector ramps would be provided at selected facilities. The width of the typical section for the proposed facility would be approximately 1,000 to 1,200 feet, which would include a 200-foot wide utility zone that could ultimately accommodate lines for water, petroleum, natural gas, electricity, data and other commodities. The proposed facility would extend from the Texas-Oklahoma state line, north of the Dallas/Fort Worth metropolitan area, through Central Texas, to the Texas-Mexico international border and/or the Texas Gulf Coast—a distance of approximately 800 miles. The actual length would be dependent upon the corridor selected during the Tier One EIS and subsequent route location studies to occur during Tier Two. For much of its length, it is anticipated that the proposed TTC-35 facility would generally parallel existing Interstate Highway 35; however, to maximize flexibility in determining a southern terminus at the United States/Mexico International Border and/or the Texas Gulf Coast, much of south Texas and the Rio Grande Valley will be analyzed in the Tier One EIS.

FHWA and TxDOT anticipate utilizing a combination of traditional and innovative financing options to fund construction of the proposed facility. These options include state and federal transportation sources, public/private partnerships and tolling.

The Tier One EIS will focus on broad issues such as general location, and area wide air quality and land use implications of the major alternatives. Alternatives to be considered in the Tier One EIS will include corridor location alternatives and the no-action alternative. Anticipated decisions to be made during the Tier One study include identification of a preferred corridor location alternative; refinement of modal concepts; identification of preliminary segments of independent utility and identification of areas that may warrant corridor preservation. The Tier One EIS and subsequent record of decision, once issued, will not authorize construction of any portion of the proposed TTC-35 facility.

Documents prepared during Tier Two will retain the no-action alternative for consideration and comparison with the reasonable build alternatives, further refine the selected corridor, and would address site-specific details on project impacts, cost and mitigation measures; and would rely upon and utilize the environmental analysis in the Tier One EIS. Tier Two documents could be in the form of Environmental Assessments, Categorical Exclusions or EISs depending on the type, scope and complexity of proposed second tier projects.

As a priority element of the Trans-Texas Corridor system, the proposed TTC-35 facility is considered necessary to enhance the Texas transportation system by facilitating management of congestion in urbanized areas, improving safety of hazardous materials transport, and creating economic development opportunities.

Public scoping meetings will be held for the proposed project; however, dates for the meetings have not yet been determined. At least 30 days and 10 days prior to the public scoping meetings, notice of the meetings will be published in newspapers having general circulation in the project area. In addition to the public scoping meetings, letters describing the proposed action and soliciting comments to be considered during the scoping process will be sent to appropriate federal, state and local authorities as well as private organizations, individuals and stakeholders who have previously expressed or are known to have an interest in this proposal. Public meetings and a public hearing(s) will be held during appropriate phases of the project development process. Public notices will be given of the date, time, and location of each.

A second high priority Trans-Texas Corridor—the I-69 High Priority Corridor—is also under development and a Tier One EIS will be prepared for that facility. A separate Notice of Intent for that EIS was published in the Federal Register on January 15, 2004. Although the I-69 facility and TTC-35 are separate and distinct actions, with each having logical termini and independent utility, each of the proposed facilities shares the need to terminate along the Texas-Mexico International Border or Texas Gulf Coast resulting in overlap of study areas. In the overlapping areas, care will be taken to closely coordinate the development of the two facilities in order to minimize duplication of effort and inconvenience to the public, resource agencies and other stakeholders. Both projects will be considered in the cumulative impacts analysis for each of the facilities.

To ensure that the full range of issues related to this proposed action is addressed and all significant issues are identified, comments and suggestions are invited from all interested parties. Comments or questions concerning this proposed action and the Tier One EIS should be directed to the FHWA at the address provided above.

(Catalog of Federal Domestic Assistance Program Number 20.205, Highway Research, Planning and Construction. The regulations implementing Executive Order 12372 regarding intergovernmental consultation on Federal programs and activities apply to this program.)

Issued on: January 26, 2004.
Salvador Deocampo,
District Engineer, Austin, Texas.

[FR Doc. 04-2428 Filed 2-4-04; 8:45 am]

BILLING CODE 4910-22-M